NATIONAL COMMUNICATIONS SYSTEM

Telecommunications Service Priority System Oversight Committee; Meeting

AGENCY: National Communications System (NCS).

ACTION: Notice of meeting.

A meeting of the Telecommunications Service Priority (TSP) System Oversight Committee will convene Thursday, November 13, 2002 from 9 a.m. to 12 p.m. the meeting will be held at 701 South Courthouse Road, Arlington, VA in the NCS conference room on the 2nd floor.

—TSP Program Update

—TSP Revalidation Update

—TSP Customer Satisfaction Survey

Anyone interested in attending or presenting additional information to the Committee, please contact Deborah Bea, Office of Priority Telecommunications, (703) 607-4933. Media or Press must contact Mr. Steve Barrett at (703) 607-6211.

Peter M. Fonash,
Federal Register Liaison Officer, National Communications System.

[FR Doc. 03-25762 Filed 10-9-03; 8:45 am]

BILLING CODE 5001-08-M